NATIONAL SCIENCE FOUNDATION

Advisory Committee for Biological Sciences; Committee of Visitors; Notice of Meeting

In accordance with the Federal Advisory Committee Act (Pub. L. 92-463, as amended), the National Science Foundation announces the following meeting:

Name: Advisory Committee for Biological Sciences (1110): Committee of Visitors.

Date and Time: July, 17-29, 2000; 8:30 a.m. to 5 p.m. each day.

Place: National Science Foundation, Room 680, 4201 Wilson Boulevard, Arlington, VA.

Type of Meeting: Part open (see agenda below):

Contact Person: Dr. Christopher Platt, Division of Integrative Biology and Neuroscience, National Science Foundation, 4201 Wilson Boulevard, Arlington, VA, (703) 306-1420.

Purpose of Meeting: To carry out Committee of Visitors (COV) review, including examination of decisions on proposals, reviewer comments, and other privileged information.

Agenda: To provide oversight review of the Division of Integrative Biology and Neuroscience.

Open Sessions: July 17, 8:30 a.m.-10:30 a.m.; July 18, 1 p.m.-2 p.m.; July 19, 1 p.m.-2 p.m.

Reason for Closing: During the closed session, the Committee will be reviewing proposal actions that will include information of a proprietary nature, including technical information; financial data, such as salaries; and personal information concerning individuals associated with the proposals. These matters are exempt under 5 U.S.C. 552b(c), (4) and (6) of the Government in the Sunshine Act.

Reason for Late Notice: Committee membership was not finalized until June 20, 2000 and scheduling dates to include travel could not take place until membership was finalized.

Dated: June 28, 2000.
Karen J. York,
Committee Management Officer.

[FR Doc. 00-16785 Filed 6-30-00; 8:45 am]

BILLING CODE 7555-01-M